DEPARTMENT OF TRANSPORTATION

Coast Guard

33 CFR Part 181

[CGD 92-065]

RIN 2115-AE37

Hull Identification Numbers for Recreational Boats

AGENCY: Coast Guard, DOT.

ACTION: Supplemental notice of proposed rulemaking; termination.

SUMMARY: The Coast Guard is terminating its rulemaking intended to amend its regulations on the identification number placed on the hull of a vessel. There is no consensus on the format for an expanded HIN and the Coast Guard lacks sufficient data to demonstrate that the benefits clearly outweigh the costs and burdens, particularly for small entities and the builders of high-volume, low cost boats.

DATES: This proposed rulemaking is terminated on June 29, 2000.

FOR FURTHER INFORMATION CONTACT: Alston Colihan, Office of Boating Safety, Recreational Boating Product Assurance Division, 202-267-0981.

SUPPLEMENTARY INFORMATION:

Regulatory History

The Coast Guard published a Notice of Proposed Rulemaking in the Federal Register (59 FR 23651) on May 6, 1994, proposing to expand the existing 12-character hull identification number (HIN) to include certain vessel-specific information similar to the Vehicle Identification Number (VIN) on an automobile. A check digit in the expanded HIN would make alteration of an HIN more difficult, thereby helping to prevent fraud in the sale of vessels.

Major objections to the proposed 19-character HIN were received based on the increased information collection burdens, particularly on small entities and the builders of high-volume, low cost boats, such as canoes, kayaks, and inflatables. In addition, the International Standards Organization (ISO) had finalized an HIN standard consisting of the existing Coast Guard 12-character HIN format preceded by a 2-character country code and a hyphen. Manufacturers in the U.S. who export to Europe would be using the ISO HIN standard beginning with the 1996 model year. Builders would have to affix HINs in two different formats or know in advance whether a boat would be sold in the U.S. or in Europe.

In consideration of the objections received about information-collection burdens, we published a Supplemental Notice of Proposed Rulemaking (SNPRM) in the Federal Register on February 21, 1997 (62 FR 7971) announcing a proposal to align the HIN with the recently adopted ISO 14-character HIN standard. We received 31 comments nearly all of which were opposed to the 14-character ISO HIN format. Some of the comments indicated that, if the Coast Guard were to adopt the ISO format instead of an HIN format consisting of vessel-specific characters and a check digit, some States might refuse to participate in the development of the Vessel Identification System (VIS).

Therefore, in an attempt to gather information to resolve conflicting issues, we published a Request for Comments in the Federal Register on November 16, 1998 (63 FR 63638), soliciting comments on: (1) The expected benefits of an expanded HIN with vessel-specific characters and a check digit; (2) the manner in which the Coast Guard should exempt small entities and the builders of high-volume, low cost boats, such as canoes, kayaks, and inflatables; and (3) the estimated burdens and costs to boat manufacturers if the HIN regulations were revised to require vessel-specific characters and a check digit.

We received 31 comments, only one of which contained any economic data which could be used to determine the benefits of a requirement for an expanded HIN containing vessel-specific characters and a check digit. Only four comments were in favor of allowing exceptions for small entities and the builders of high-volume, low cost boats, such as canoes, kayaks, and inflatable boats. None of the comments contained information about the estimated burdens and costs to boat manufacturers.

Withdrawal

This proposed rulemaking is terminated because of (1) the lack of substantive information about the benefits to society with a requirement for an expanded HIN containing vessel-specific characters and a check digit, and (2) an inability to address issues involving exemptions for small entities and the builders of high-volume, low cost boats, such as canoes, kayaks, and inflatables. For these reasons, we are terminating further rulemaking under docket number CGD 92-065.

We are initiating a study to gather data on the costs and benefits of an expanded HIN format and potential adverse impacts on small entities. We will review the results of the study and decide whether or not to open a new regulatory project in the future.

Dated: June 21 2000.
Terry M. Cross,
Rear Admiral, U.S. Coast Guard, Assistant Commandant for Operations.

[FR Doc. 00-16449 Filed 6-28-00; 8:45 am]

BILLING CODE 4910-15-P